DEPARTMENT OF ENERGY

Southeastern Power Administration

Intent To Revise Power Marketing Policy Georgia-Alabama-South Carolina System of Projects

AGENCY: Southeastern Power Administration, DOE.

ACTION: Notice of intention to begin a public process.

SUMMARY: Pursuant to its Procedure for Public Participation in the Formulation of Marketing Policy, published in the Federal Register of July 6, 1978, Southeastern Power Administration (Southeastern) intends to revise the Georgia-Alabama-South Carolina System of Projects marketing policy by including provisions regarding renewable energy certificates (RECs). The current power marketing policy was published on December 28, 1994, for the Georgia-Alabama-South Carolina System, and is reflected in contracts for the sale of system power, which are maintained in the Southeastern headquarters office. Southeastern solicits written comments and proposals in formulating the proposed marketing policy revision.

DATES: Comments and proposals must be submitted on or before March 15, 2022.

ADDRESSES: Written comments or proposals should be submitted to Virgil G. Hobbs III, Administrator & Chief Executive, Southeastern Power Administration, 1166 Athens Tech Road, Elberton, GA 30635-6711, (706) 213-3800, Comments@sepa.doe.gov.

FOR FURTHER INFORMATION CONTACT: Leon Jourolmon IV, General Counsel, (706) 213-3800, Comments@sepa.doe.gov.

SUPPLEMENTARY INFORMATION: A “Final Power Marketing Policy Georgia-Alabama-South Carolina System of Projects” was developed and published in the Federal Register on December 28, 1994, 59 FR 66957, by Southeastern. The policy establishes the marketing area for system power and addresses the utilization of area utility systems for essential purposes. The policy also addresses wholesale rates, resale rates, and conservation measures, but does not address RECs.

Under section 5 of the Flood Control Act of 1944 (16 U.S.C. 825s), Southeastern is responsible for the transmission and disposition of electric power and energy from reservoir projects operated by the Department of the Army. Furthermore, Southeastern must transmit and dispose of such power and energy in such manner as to encourage the most widespread use at the lowest possible rates to consumers consistent with sound business principles. Rate schedules are drawn having regard to the recovery of the cost of producing and transmitting such electric energy.

The Georgia-Alabama-South Carolina System consists of ten projects: Allatoona, Buford, Carters, Hartwell, J.S. Thurmond, Millers Ferry, R.B. Russell, R.F. Henry, West Point, and W.F. George. The power from the projects currently is marketed to Preference Customers located in the service areas of Southern Company, PowerSouth Energy Cooperative, Duke Energy Carolinas, Santee Cooper, and Dominion Energy South Carolina.

Southeastern has been using the Generation Attribute Tracking System (GATS) provided through PJM Environmental Information Services, Inc., for the Kerr-Philpott System of Projects. The attributes are unbundled from the megawatt-hour of energy produced and recorded onto a certificate. These certificates may be used by electricity suppliers and other energy market participants to comply with relevant state policies and regulatory programs and to support voluntary “green” electricity markets. Southeastern is considering using the similar M-RETS® product or another product for distributing certificates to current Preference Customers with allocations of power from the Georgia-Alabama-South Carolina System.

The REC tracking system Southeastern selects should be capable of tracking environmental attributes used for voluntary claims in all states, provinces, and territories in North America.

Upon formulating a proposed revision to the Georgia-Alabama-South Carolina System marketing policy to address RECs, Southeastern will publish the proposal in the Federal Register and begin a sixty-day comment period pursuant to its Procedures for Public Participation in the Formulation of Marketing Policy.

Signing Authority

This document of the Department of Energy was signed on January 4, 2022, by Virgil G. Hobbs III, Administrator & Chief Executive for Southeastern Power Administration, pursuant to delegated authority from the Secretary of Energy. That document, with the original signature and date, is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on January 11, 2022.
Treena V. Garrett,
Federal Register Liaison Officer, U.S. Department of Energy.

[FR Doc. 2022-00668 Filed 1-13-22; 8:45 am]

BILLING CODE 6450-01-P